DEPARTMENT OF ENERGY

Office of Energy Efficiency and Renewable Energy

Biomass Research and Development Technical Advisory Committee

AGENCY: Department of Energy.

ACTION: Notice of open meeting.

SUMMARY: This notice announces an open meeting of the Biomass Research and Development Technical Advisory Committee under the Biomass Research and Development Act of 2000. The Federal Advisory Committee Act (Pub. L. 92-463, 86 Stat. 770) requires that agencies publish these notices in the Federal Register to allow for public participation.

DATES: November 29th, 2005 at 8 a.m., November 30th, 2005 at 9:30 a.m.

ADDRESSES: Washington Marriott Hotel, Ballrooms A&B, 1221 22nd Street, NW., Washington, DC 20037.

FOR FURTHER INFORMATION CONTACT: Neil Rossmeissl, Designated Federal Officer for the Committee, Office of Energy Efficiency and Renewable Energy, U.S. Department of Energy, 1000 Independence Avenue, SW., Washington, DC 20585; (202) 586-8668 or Harriet Foster at (202) 586-4541; E-mail: harriet.foster@ee.doe.gov

SUPPLEMENTARY INFORMATION: Purpose of Meeting: To provide advice and guidance that promotes research and development leading to promoting the use of bio-based fuels and bio-based products.

Tentative Agenda: Agenda will include discussions on the following:

• Discussion of recommendations towards updating the Biomass Vision and Roadmap.

• Discussion of Annual Recommendations to the Secretaries of Agriculture and Energy.

• Joint meeting with Interagency Biomass R&D Board.

• Discussion of 2005 and 2006 Committee Work Plans.

• Establishment of subcommittees.

Public Participation: In keeping with procedures, members of the public are welcome to observe the business of the Biomass Research and Development Technical Advisory Committee. To attend the meeting and/or to make oral statements regarding any of the items on the agenda, you should contact Neil Rossmeissl at 202-586-8668 or the Biomass Initiative at 202-586-4541 or harriet.foster@ee.doe.gov (e-mail). You must make your request for an oral statement at least 5 business days before the meeting. Members of the public will be heard in the order in which they sign up at the beginning of the meeting. Reasonable provision will be made to include the scheduled oral statements on the agenda. The Chair of the Committee will make every effort to hear the views of all interested parties. If you would like to file a written statement with the Committee, you may do so either before or after the meeting. The Chair will conduct the meeting to facilitate the orderly conduct of business.

Minutes: The minutes of the meeting will be available for public review and copying at the Freedom of Information Public Reading Room; Room 1E-190; Forrestal Building; 1000 Independence Avenue, SW., Washington, DC, between 9 a.m. and 4 p.m., Monday through Friday, except Federal holidays.

Issued at Washington, DC, on November 15, 2005.
Carol Matthews,
Acting Advisory Committee Management Officer.

[FR Doc. 05-23004 Filed 11-18-05; 8:45 am]

BILLING CODE 6450-01-P